ENVIRONMENTAL PROTECTION AGENCY

[FRL-7099-6]

Request for Nominations of Members and Consultants, and Notice of Establishment; EPA National Advisory Committee for Environmental Policy and Technology (NACEPT) Superfund Subcommittee

AGENCY: Environmental Protection Agency (EPA).

ACTION: Notice.

SUMMARY: The Environmental Protection Agency announces the establishment of the Superfund Subcommittee to be formed under the auspices of the EPA National Advisory Committee for Environmental Policy and Technology (NACEPT). EPA invites nominations for qualified candidates to be considered for appointment to the Subcommittee that will engage the public in an open dialogue about the future direction of the Superfund program. A critical aspect of the dialogue will be consideration of Superfund's relationship to other federal and state waste programs with an eye toward finding ways for all waste programs to work together in a more unified fashion.

DATES: EPA expects to make appointments by the end of the calendar year and will accept nomination submissions until close of business on December 6, 2001.

ADDRESSES: Nominations must be submitted in writing by mail, electronically or in person, and must include a resume describing the professional, educational and/or experiential qualifications of the nominee. Nominations should also include the nominee's current business or residential address, daytime telephone number, fax, and E-mail address. Send nominations to: Lois Gartner, Designated Federal Officer, Office of Solid Waste and Emergency Response, U.S. Environmental Protection Agency (5103), 1200 Pennsylvania Avenue NW., Washington, DC 20460, fax 202-260-8929, E-mail gartner.lois@epa.gov.

FOR FURTHER INFORMATION CONTACT: Lois Gartner, Designated Federal Officer, Office of Solid Waste and Emergency Response, U.S. Environmental Protection Agency (5103), 1200 Pennsylvania Avenue, NW., Washington, DC 20460, telephone 202-260-0714, E-mail gartner.lois@epa.gov.

SUPPLEMENTARY INFORMATION: NACEPT is a federal advisory committee under the Federal Advisory Committee Act, Pub. L. 92463. NACEPT provides advice and recommendations to the Administrator and other EPA officials on a broad range of domestic and international environmental policy issues.

Under the NACEPT framework, EPA is undertaking an examination of fundamental issues related to the future of the Superfund program. These issues cover a broad spectrum of topics important to Superfund including, but not limited to: the role and scope of the National Priorities List (NPL); how to address contaminated sediment, mining, and other “mega” sites; the role of states in Superfund; non-NPL cleanups; and measuring program progress. An important piece of the Subcommittee's dialogue will entail looking at Superfund in the context of other federal and state waste programs. This component of the group's deliberations will focus on how the Nation's waste programs can work together in a more effective and unified fashion, so that citizens can be assured that federal, state, and local governments are working cooperatively to make sites safe for their intended uses. The Superfund Subcommittee will deliberate on these and other Superfund-related issues and make policy recommendations to the EPA Administrator and other EPA officials.

EPA is soliciting qualified candidates who want to be considered for appointment to the Superfund Subcommittee. Any interested person or organization may nominate qualified persons for membership to the Subcommittee. Nominees should be qualified by education, training, or experience to participate in and contribute to a dialogue about the future direction of the Superfund program.

To ensure the Subcommittee represents a full spectrum of stakeholder views regarding Superfund policies, EPA seeks representation of the following groups: public policy analysts, academia, community groups, environmental justice groups, environmental and public interest organizations, state government, local government, tribal governments, industry, and scientists/engineers (e.g., toxicologists, ecologists, risk assessors, etc.). The EPA Administrator determines the Subcommittee's composition. Members will serve approximately an eighteen-month term.

Dated: October 31, 2001.
Marianne Lamont Horinko,
Assistant Administrator for the Office of Solid Waste and Emergency Response.

[FR Doc. 01-27818 Filed 11-5-01; 8:45 am]

BILLING CODE 6560-50-P